DEPARTMENT OF AGRICULTURE

Rural Utilities Service

[DOCKET #: RUS-23-ELECTRIC-0005]

Empowering Rural America (New ERA) Program

AGENCY: Rural Utilities Service, USDA.

ACTION: Notice; announcement of the opening of the online application window for the New ERA Program.

SUMMARY: The Rural Utilities Service, a Rural Development agency of the United States Department of Agriculture (USDA), hereinafter referred to as “RUS” or “the Agency” announced its intent to solicit Letters of Interest (LOI) for applications under the Empowering Rural America (New ERA) Program in a Notice of Funding Opportunity (NOFO) on May 16, 2023, in the Federal Register. In addition, the NOFO also announced the eligibility requirements, application process and deadlines, and the criteria that RUS will use to assess New ERA Applications. The New ERA funds will be used to assist Eligible Entities in achieving the greatest reduction in Greenhouse Gas (GHG) emissions while advancing the long-term resiliency, reliability, and affordability of rural electric systems. This Notice announces an update on how to submit an LOI, additional information that must be submitted and an extension of time to submit LOIs.

DATES: The Agency will begin accepting LOIs for the New ERA Program beginning at 11:59 a.m. Eastern Time (ET) on July 31, 2023, and until 11:59 p.m. ET on September 15, 2023. Letters of Interest will not be accepted after 11:59 p.m. ET on September 15, 2023.

ADDRESSES: All LOIs must be submitted to RUS electronically at www.grants.gov. Additional information and resources are available at https://www.rd.usda.gov/programs-services/electric-programs/empowering-rural-america-new-era-program. The Inflation Reduction Act of 2022 funding for Rural Development website is located at https://www.rd.usda.gov/inflation-reduction-act.

FOR FURTHER INFORMATION CONTACT: Christopher McLean, Assistant Administrator, Electric Program, Rural Utilities Service, Rural Development, United States Department of Agriculture, 1400 Independence Avenue SW, STOP 1568, Washington, DC 20250-1560; Telephone: 202-690-4492. Email to: SM.RD.RUS.IRA.Questions@usda.gov.

SUPPLEMENTARY INFORMATION:

Authority: The New ERA Program is authorized under the Inflation Reduction Act of 2022 (Pub. L. 117-169, “IRA”), Subtitle C, Section 22004.

Overview

Federal Awarding Agency Name: Rural Utilities Service.

Funding Opportunity Title: Empowering Rural America (New ERA) Program.

Announcement Type: Announcement of the Opening of the On-Line Application Window for the New ERA Program.

Assistance Listing Number: 10.758.

Funding Opportunity Number: RUS-NewERA-2023

LOI submission information: RUS will accept electronic submission of LOIs through Grants.gov. RUS will not accept paper, facsimile, or email transmission.

I. Background

On August 16, 2022, The Biden Harris Administration and the United State Congress passed the Inflation Reduction Act of 2022 which authorized the New ERA Program. The goal of the New ERA Program is to provide financial assistance to Eligible Entities to achieve the greatest reductions in GHG emissions through the cooperatives' voluntary transformation of rural electric systems in a way that promotes resiliency and reliability of rural electric systems and affordability for their members.

On May 16, 2023, the Agency published a NOFO in the Federal Register (88 FR 31218) that solicited LOIs for applications under the New ERA Program and announced the application process as well as provided deadlines for applications from Eligible Entities. The NOFO also informed potential Applicants that the Agency would finalize the specific requirements of submitting an LOI through the on-line application window by a separate notice in the Federal Register and on the RUS website at https://www.rd.usda.gov/programs-services/electric-programs/empowering-rural-america-new-era-program. In response to stakeholder requests, RUS is extending the deadline for accepting LOI submissions from August 31, 2023, to September 15, 2023, to provide stakeholders more time to prepare their LOIs.

II. Letter of Interest Requirements and Submission

A. Letter of Interest Requirements

The Agency has added the requirement to submit an Application for Federal Assistance (SF 424) to the list of items needed for a complete LOI in order to accept the LOI's through Grants.gov. In addition to the SF 424, Applicants will still be required to provide the information included in Section D.2.i. of the NOFO that published in the Federal Register on May 16, 2023, (88 FR 31218). The RUS New ERA website will include an LOI Guide at https://www.rd.usda.gov/programs-services/electric-programs/empowering-rural-america-new-era-program. The LOI Guide will provide details on the submission of the LOI on Grants.gov, including how to provide attachments. In addition, the LOI Guide will detail how Applicants should use the RUS geospatial mapping tool to draw the service areas associated with each New ERA project and then upload Shapefiles to Grants.gov as part of an LOI Application. The LOI Guide will also indicate where to attach the additional requirements for the LOI, such as a copy of the Applicant's balance sheet and income statements.

B. Letter of Interest Submission

1. Application of General Assistance. Prior to official submission of an LOI, Applicants may request general assistance from the Agency if such requests are made prior to September 8, 2023. The Agency may provide general assistance as it is able, and Applicants may request assistance in the form of general assistance and consultation with an RUS General Field Representative (GFR). Please note that RUS GFRs shall not provide strategic submission or strategic LOI advice, and Applicants are fully responsible for their submissions. Assistance may also be requested to Agency staff in the form of requests to speak at meetings, events, and conferences to explain program provisions and answer questions about this funding announcement. Responses to questions regarding program provisions and this funding announcement will be posted to the New ERA FAQ page. Information on contacting an RUS GFR can be found at https://www.rd.usda.gov/contact-us/electric-gfr. For requests regarding speaking engagements, please email: SM.RD.RUS.IRA.Questions@usda.gov.

2. Letters of Interest Submission Deadlines: The Agency will begin accepting LOIs for the New ERA Program beginning at 11:59 a.m. ET on July 31, 2023, and until 11:59 p.m. ET on September 15, 2023.

The LOIs must be submitted electronically thru www.grants.gov. The New ERA funding opportunity in Grants.gov can be found by searching for the funding opportunity number found in the SUPPLEMENTARY INFORMATION section of this Notice. Please review the Grants.gov website at https://www.grants.gov/web/grants/register.html for instructions on the process of registering an organization as soon as possible to ensure that all electronic application deadlines are met. Grants.gov will not accept applications submitted after the deadline.

III. Program Requirements

To be eligible for an award, applications must meet all of the requirements contained in the NOFO published in the Federal Register on May 16, 2023, at 88 FR 31218. Information can also be found at https://www.rd.usda.gov/programs-services/electric-programs/empowering-rural-america-new-era-program.

Andrew Berke,
Administrator, Rural Utilities Service.

[FR Doc. 2023-15897 Filed 7-26-23; 8:45 am]

BILLING CODE 3410-15-P